JUDICIAL CONFERENCE OF THE UNITED STATES

Hearings of the Judicial Conference Advisory Committees on the Federal Rules of Appellate and Criminal Procedure and Rules of Evidence

AGENCY: Advisory Committees on the Federal Rules of Appellate and Criminal Procedure, and Rules of Evidence, Judicial Conference of the United States.

ACTION: Notice of cancellation of public hearings.

SUMMARY: The January 5, 2018 public hearings in Phoenix, Arizona, on proposed amendments to the Appellate, Criminal and Evidence Rules, the Rules Governing Section 2254 Cases in the United States District Courts, and the Rules Governing Section 2255 Proceedings for the United States District Courts have been canceled.

FOR FURTHER INFORMATION CONTACT: Rebecca A. Womeldorf, Rules Committee Secretary, Rules Committee Staff, Administrative Office of the United States Courts, Washington, DC 20544, telephone (202) 502-1820.

SUPPLEMENTARY INFORMATION: Announcement for this hearing was previously published in 82 FR 37610.

Dated: December 7, 2017.
Rebecca A. Womeldorf,
Rules Committee Secretary.

[FR Doc. 2017-26789 Filed 12-12-17; 8:45 am]

BILLING CODE 2210-55-P